DEPARTMENT OF JUSTICE

Office of Justice Programs

[OJP(OJP)-1372]

Meeting of the Public Safety Officer Medal of Valor Review Board

AGENCY: Office of Justice Programs (OJP), Justice.

ACTION: Notice of meeting.

SUMMARY: This is an announcement of a meeting of the Public Safety Officer Medal of Valor Review Board to review and discuss the timetable for carrying out the Board's responsibilities for 2003.

DATES: The meeting will take place on Thursday, February 13, 2003, from 2 p.m. to 5 p.m. E.S.T.

ADDRESSES: The meeting will take place at the Office of Justice Programs, 810 7th St., NW., Washington, DC 20531; Phone: 202-307-5933.

FOR FURTHER INFORMATION CONTACT: Tracy A. Henke, Principal Deputy Assistant Attorney General, Office of Justice Programs, 810 7th Street NW., Sixth Floor, Washington, DC 20531; Phone: (202) 307-5933 (note: this not a toll free number).

SUPPLEMENTARY INFORMATION: This meeting will be open to the public and registrations will be accepted on a space available basis. Members of the public who wish to attend the meeting must register at least seven (7) days in advance of the meeting by contacting Ms. Henke at the above address. Access to the meeting will not be allowed without registration. All attendees will be required to sign in at the meeting registration desk. Please bring photo identification and allow extra time prior to the meeting.

Anyone requiring special accommodations should contact Ms. Henke at least seven (7) days in advance of the meeting.

Authority

The Public Safety Officer Medal of Valor Review Board is authorized to carry out its advisory function under 42 U.S.C. 15202. 42 U.S.C. 15201 authorizes the President to award the Public Safety Officer Medal of Valor, the highest national award for valor by a public safety officer.

Tracy A. Henke,
Principal Deputy Assistant Attorney General, Office of Justice Programs.

[FR Doc. 03-2814 Filed 2-5-03; 8:45 am]

BILLING CODE 4410-18-P